DEPARTMENT OF EDUCATION

Office of Elementary and Secondary Education; Overview Information; Indian Education Formula Grants to Local Educational Agencies; Notice Inviting Applications for Fiscal Year (FY) 2009

Catalog of Federal Domestic Assistance (CFDA) Number: 84.060A.

DATES: Part I of the Formula Grant Electronic Application System for Indian Education (EASIE) Applications Available: December 23, 2008.

Deadline for Transmittal of Part I Applications: January 30, 2009.

Part II of the Formula Grant (EASIE) Applications Available: March 16, 2009.

Deadline for Transmittal of Part II Applications: April 22, 2009.

Applications not meeting the deadline for Part I applications will not be considered for funding in the initial allocation of awards. Part II applications or data submissions will be accepted only from those eligible applicants that meet the Part I application deadline.

Deadline for Intergovernmental Review: June 22, 2009.

SUPPLEMENTARY INFORMATION: Purpose of Program: The Indian Education Formula Grants to Local Educational Agencies program provides grants to support local educational agencies (LEAs) and other eligible entities described in this notice in their efforts to reform and improve elementary and secondary school programs that serve Indian students. The Department funds programs designed to help Indian students meet the same challenging State academic content and student academic achievement standards used for all students. In addition, under section 7116 of the Elementary and Secondary Education Act of 1965, as amended (ESEA), the Secretary will, upon receipt of an acceptable plan for the integration of education and related services, authorize the entity receiving the funds under this program to consolidate, in accordance with the entity's plan, the funds for any Federal program exclusively serving Indian children, or the funds reserved under any Federal program to exclusively serve Indian children, that are awarded under a statutory or administrative formula to the entity, for the purpose of providing education and related services to Indian students. Instructions for submitting an integration of education and related services plan are included in the EASIE described elsewhere in this notice under Application Process and Submission Information.

Eligible Applicants: LEAs, including charter schools authorized as LEAs under State law, certain schools funded by the Bureau of Indian Education of the Department of the Interior, and Indian tribes under certain conditions, as prescribed by section 7112(c) of the ESEA.

Application Process and Submission Information: The application process for the Indian Education Formula Grants to Local Educational Agencies program utilizes the Formula Grant EASIE, an easy-to-use, electronic application system. Formula Grant EASIE provides special features that will progressively enhance data availability and performance reporting for applicants, including the use of data from State submissions to EDFacts, the Department's data collection system, which contains performance information from State educational agencies about schools and Federal education programs. To the extent that your State has provided the necessary EDFacts data files, Formula Grant EASIE will be able to interface with EDFacts and pull those LEA-specific data into the application. Additionally, this system allows the Department to review applications and interact online with applicants during the application review and approval process.

Although you may download and print sample forms from the system, the application must be submitted electronically through the Formula Grant EASIE unless you do not have Internet access and have made prior arrangements with the Department. For approval to submit a paper application, you must contact the EDFacts Partner Support Center (see the contact information listed elsewhere in this notice under FOR FURTHER INFORMATION CONTACT) prior to the deadline for transmittal of Part I or Part II applications. If you are approved to submit a paper application, you must meet the submission deadlines included in this notice.

Registration for Formula Grant EASIE is required. For information on how to register, contact the EDFacts Partner Support Center listed elsewhere in this notice under FOR FURTHER INFORMATION CONTACT .

The Formula Grant EASIE application is divided into two parts—Part I and Part II.

Part I, Student Count, provides the appropriate data entry screens to submit your Indian student count totals.

Part II, Program and Budget Information, provides your award amount based on the Indian student count total submitted under Part I. Part II also enables you to enter student performance data, identify your project's services and activities, and build a realistic program budget based on a known grant amount. Based on student assessment data, you will select your program objectives and services from a variety of menu options that were designed with grantee input.

Estimated Available Funds: The Administration has requested $96,613,000 for this program for FY 2009. The actual level of funding, if any, depends on final Congressional action. However, we are inviting applications to allow enough time to complete the grant process if Congress appropriates funds for this program.

Estimated Range of Awards: $4,000-$2,000,000.

Estimated Average Size of Awards: $75,775.

Estimated Number of Awards: 1,275.

Note: The Department is not bound by any estimates in this notice and funding levels may change based on final appropriations for the program.

Project Period: 12 months.

Applicable Regulations: The Education Department General Administrative Regulations (EDGAR) in 34 CFR parts 75, 77, 79, 80, 81, 82, 84, 85, 86, 97, 98, and 99.

Note: The regulations in 34 CFR part 79 apply to all applicants except federally recognized Indian tribes.

Performance Measures: The Secretary has established the following key performance measures for assessing the effectiveness and efficiency of the Indian Education Formula Grants to Local Educational Agencies program: (1) The percentage of American Indian and Alaska Native students in grades four and eight who score at or above the basic level in reading on the National Assessment of Educational Progress (NAEP); (2) the percentage of American Indian and Alaska Native students in grades four and eight who score at or above the basic level in mathematics on the NAEP; (3) the percentage of American Indian and Alaska Native students in grades three through eight meeting State performance standards by scoring at the proficient or the advanced levels in reading and mathematics on State assessments; (4) the difference between the percentages of American Indian and Alaska Native students in grades three through eight at the proficient or advanced levels in reading and mathematics on State assessments and the percentage of all students scoring at those levels; (5) the percentage of American Indian and Alaska Native students who graduate from high school; and (6) the percentage of funds used by grantees prior to award close-out.

FOR FURTHER INFORMATION CONTACT: Contact the EDFacts Partner Support Center, telephone: 877-457-3336 (877-HLP-EDEN) or by e-mail at: eden_OIE@ed.gov .

If you use a telecommunications device for the deaf (TDD), call the EDFacts Partner Support Center, toll free, at 1-888-403-3336 (888-403-EDEN).

Individuals with disabilities can obtain this document and a copy of the application package in an accessible format (e.g., Braille, large print, audiotape, or computer diskette) by contacting the EDFacts Partner Support Center.

Electronic Access to This Document: You can view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Program Authority: 20 U.S.C. 7421 et seq.

Dated: December 17, 2008.
Kerri L. Briggs,
Assistant Secretary for Elementary and Secondary Education.

[FR Doc. E8-30466 Filed 12-22-08; 8:45 am]

BILLING CODE 4000-01-P